GENERAL SERVICES ADMINISTRATION

[OMB Control No. 3090-0317; Docket No. 2021-0001; Sequence No. 7]

Submission for OMB Review; Notarized Document Submittal for System for Award Management Registration

AGENCY: Office of Acquisition Policy, General Services Administration (GSA).

ACTION: Notice of request for comments regarding an extension to an existing OMB clearance.

SUMMARY: Under the provisions of the Paperwork Reduction Act, the Regulatory Secretariat Division will be submitting to the Office of Management and Budget (OMB) a request to review and approve an existing OMB clearance regarding a notarized document submittal for System for Award Management (SAM) Registration.

DATES: Submit comments on or before December 9, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Nancy Goode, Integrated Award Environment, GSA, 703-605-2175, or via email at nancy.goode@gsa.gov.

SUPPLEMENTARY INFORMATION: The Federal Acquisition Regulation and Code of Federal Regulation prescribe the policies and procedures requiring registration in the System for Award Management database. Federal Acquisition Regulation (FAR) Subpart 4.11 prescribes policies and procedures for requiring registration in the System for Award Management (SAM) database to: (1) Increase visibility of vendor sources (including their geographical locations) for specific supplies and services; and (2) establish a common source of vendor data for the Government. The Code of Federal Regulations (CFR) at 2 CFR 25.200 prescribes policies and procedures for requiring recipient registration in the System for Award Management (SAM) database.

In the past, the GSA Office of Inspector General (OIG) conducted an investigation into fraudulent activities discovered within SAM. Certain bad actors have, through electronic means, used public information to impersonate legitimate entities and established new entity registrations for those entities in SAM. By establishing fraudulent entity registrations, bad actors submitted bids in certain U.S. Government procurement systems or shipped deficient or counterfeit goods to the U.S. Government.

GSA established an Information Collection Request (ICR) to collect additional information to support increased validation of entities registered in the System for Award Management (SAM). This additional information is contained in a notarized letter in which an officer or other signatory authority of the entity formally appoints the administrator for the entity when an administrator is not available to perform that function for that entity. The original, signed letter is submitted electronically to the Federal Service Desk (FSD) for SAM when an administrator needs to be appointed for an existing entity.

The new ICR expires December 31, 2021. GSA is actively pursuing technical alternatives to the collection of this information for all non-federal entities. GSA seeks to refine the requirement and adopt a risk-based approach. This notice for an extension of the ICR lays the groundwork for the authority to continue collection of the information provided GSA is still pursuing the technical alternative beyond the ICR expiration date. In the interim, the collection of the notarized letter information is essential to GSA's acquisition mission to meet the needs of all federal agencies, as well as the needs of the grant community. A key element of GSA's mission is to provide efficient and effective acquisition solutions across the Federal Government. SAM is essential to the accomplishment of that mission. In addition to federal contracts, federal assistance programs also rely upon the integrity and security of the information in SAM. Without assurances that the information in SAM is protected and is at minimal risk of compromise, GSA would risk losing the confidence of the federal acquisition and assistance communities which it serves. As a result, some entities may prefer not to do business with the Federal Government.

B. Annual Reporting Burden

Respondents: 686,400.

Responses per Respondent: 1.

Total Annual Responses: 686,400.

Hours per Response: 2.25.

Total Burden Hours: 1,544,400.

The information collection allows GSA to request the notarized letter and apply this approach to new registrants (an average of 7,200 per month) and to existing SAM registrants (an average of 50,000 re-register per month).

Entities registered and registering in SAM are provided the template for the requirements of the notarized letter. It is estimated that the Entity Administrator will take on average 0.5 hour to create the letter and 0.25 hour to submit an electronic copy of the letter to FSD. GSA proposes that an Entity Administrator equivalent to a GS-5, Step 5 Administrative Support person within the Government would perform these tasks. The estimated hourly rate of $24.70 (Base + Locality + Fringe) was used for the calculation.

Based on historical data of the ratio of small entities to other than small entities registering in SAM, GSA approximates 32,200 of the 57,200 new and existing entities (re-registrants) will have in-house resources to notarize documents. GSA proposes that the entities with in-house notaries will typically be large businesses where the projected salary of the executive or officer responsible for signing the notarized letter is on average approximately $150 per hour. The projected time for signature and notarizing the letter internally is 0.5 hour.

The other remaining 25,000 new and existing entities (re-registrants) per month are estimated to be small entities where the projected salary of the executive or officer responsible signing the notarized letter is on average approximately $100 per hour. These entities will more than likely have to obtain notary services from an outside source. The projected time for signature and notarizing the letter externally is 1 hour. The estimate includes a nominal fee ($5.00) usually charged by third- party notaries.

C. Public Comments

A notice was published in the Federal Register at 86 FR 47110 on August 23, 2021. No comments were received.

Obtaining Copies of Proposals: Requesters may obtain a copy of the information collection documents from the Regulatory Secretariat Division by calling 202-501-4755 or emailing GSARegSec@gsa.gov. Please cite OMB Control No. 3090-0317, Notarized Document Submittal for System for Award Management Registration, in all correspondence.

Beth Anne Killoran,
Deputy Chief Information Officer.

[FR Doc. 2021-24485 Filed 11-8-21; 8:45 am]

BILLING CODE 6820-WY-P